ENVIRONMENTAL PROTECTION AGENCY

40 CFR Parts 52, 62, and 70

[EPA-R07-OAR-2017-0470; FRL-9970-85-Region 7]

State of Iowa; Approval and Promulgation of the State Implementation Plan, the Operating Permits Program, and the 111(d) Plan; Withdrawal

AGENCY: Environmental Protection Agency (EPA).

ACTION: Withdrawal of direct final rule.

SUMMARY: Due to adverse comments, the Environmental Protection Agency (EPA) is withdrawing the direct final rule for “State of Iowa; Approval and Promulgation of the State Implementation Plan, the 111(d) Plan, and the Operating Permits Program,” published in the Federal Register on September 15, 2017. Iowa's SIP revision included administrative changes, corrections to technical errors, revisions to titles and explanations of the scope of rules. The revision also rescinded outdated or no longer required rules for general conformity and emissions inventory relating to the Clean Air Interstate Rule (CAIR) which has been rescinded by EPA. Finally, the revision updated state rules by incorporating by reference more recent Code of Federal Regulation dates to ensure consistency between the state and Federally-approved rules.

DATES: The direct final rule published at 82 FR 43303, September 15, 2017, is withdrawn effective November 14, 2017.

FOR FURTHER INFORMATION CONTACT: Heather Hamilton Environmental Protection Agency, Air Planning and Development Branch, 11201 Renner Boulevard, Lenexa, Kansas 66219 at 913-551-7039, or by email at Hamilton.heather@epa.gov.

SUPPLEMENTARY INFORMATION: Due to adverse comments, EPA is withdrawing the direct final rule to approve revisions to the Iowa State Implementation Plan (SIP), the 111(d) plan, and the Operating Permits Program. In the direct final rule published on September 15, 2017, (82 FR 43303), we stated that if we received adverse comment by October 16, 2017, the rule would be withdrawn and not take effect. EPA received adverse comments. EPA will address the comments in a subsequent final action based upon the proposed action also published on September 15, 2017 (82 FR 43315). EPA will not institute a second comment period on this action.

List of Subjects

40 CFR Part 52

Environmental protection, Air pollution control, Incorporation by reference, Intergovernmental relations, Lead, Nitrogen dioxide, Ozone, Particulate matter, Reporting and recordkeeping requirements, Sulfur oxides, Volatile organic compounds.

40 CFR Part 62

Environmental protection, Air pollution control, Administrative practice and procedure, Reporting and recordkeeping requirements.

40 CFR Part 70

Environmental protection, Administrative practice and procedure, Air pollution control, Intergovernmental relations, Operating permits, Reporting and recordkeeping requirements.

Dated: November 3, 2017.
James B. Gulliford,
Regional Administrator, Region 7.

Accordingly, the direct final rule published at 82 FR 43303, September 15, 2017, is withdrawn effective November 14, 2017.

[FR Doc. 2017-24635 Filed 11-13-17; 8:45 am]

BILLING CODE 6560-50-P